DEPARTMENT OF TRANSPORTATION

Federal Aviation Administration

14 CFR Part 39

[Docket No. FAA-2021-0999; Project Identifier MCAI-2021-00036-A; Amendment 39-21991; AD 2022-07-04]

RIN 2120-AA64

Airworthiness Directives; Pilatus Aircraft Ltd. Airplanes

AGENCY: Federal Aviation Administration (FAA), DOT.

ACTION: Final rule.

SUMMARY: The FAA is adopting a new airworthiness directive (AD) for certain Pilatus Aircraft Ltd. (Pilatus) Model PC-12/47E airplanes. This AD was prompted by mandatory continuing airworthiness information (MCAI) originated by an aviation authority of another country to identify and correct an unsafe condition on an aviation product. The MCAI identifies the unsafe condition as inward vent valves installed during production without chromate conversion coating on the bonding surface. This AD requires modifying the inward vent valves and prohibits installing unmodified inward vent valves. The FAA is issuing this AD to address the unsafe condition on these products.

DATES: This AD is effective May 9, 2022.

The Director of the Federal Register approved the incorporation by reference of certain publications listed in this AD as of May 9, 2022.

ADDRESSES: For service information identified in this final rule, contact Pilatus Aircraft Ltd., CH-6371, Stans, Switzerland; phone: +41 848 247 365; email: techsupport.ch@pilatus-aircraft.com; website: https://www.pilatus-aircraft.com/. You may view this service information at the FAA, Airworthiness Products Section, Operational Safety Branch, 901 Locust, Kansas City, MO 64106. For information on the availability of this material at the FAA, call (817) 222-5110. It is also available at https://www.regulations.gov by searching for and locating Docket No. FAA-2021-0999.

Examining the AD Docket

You may examine the AD docket at https://www.regulations.gov by searching for and locating Docket No. FAA-2021-0999; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, FAA, General Aviation & Rotorcraft Section, International Validation Branch, 901 Locust, Room 301, Kansas City, MO 64106; phone: (816) 329-4059; email: doug.rudolph@faa.gov.

SUPPLEMENTARY INFORMATION:

Background

The FAA issued a notice of proposed rulemaking (NPRM) to amend 14 CFR part 39 by adding an AD that would apply to certain serial-numbered Pilatus Model PC-12/47E airplanes. The NPRM published in the Federal Register on November 12, 2021 (86 FR 62746). The NPRM was prompted by MCAI from the European Union Aviation Safety Agency (EASA), which is the Technical Agent for the Member States of the European Union. EASA issued AD 2021-0010, dated January 11, 2021 (referred to after this as “the MCAI”), to correct an unsafe condition for Pilatus Model PC-12/47E airplanes with serial number 1720 and serial number 2001 and higher. The MCAI states:

An occurrence was reported where, on the production line, a batch of inward vent valves without a chromate conversion coating on the bonding surface were installed on some PC-12/47E aeroplanes. Such inward vent valves are not in compliance with the latest approved design data.

This condition, if not corrected, could lead to corrosion, consequent degradation of the electrical bonding to Rib 16, and in case of lightning strike, to arcing between the ungrounded equipment and the primary structure, possibly resulting in a fire and reduced control of the aeroplane.

To address this potential unsafe condition, Pilatus issued the SB [Service Bulletin] to provide modification instructions.

For the reason described above, this [EASA] AD requires modification of each affected part, as defined in this AD. This [EASA] AD also prohibits (re-) installation of affected parts.

You may examine the MCAI in the AD docket at https://www.regulations.gov by searching for and locating Docket No. FAA-2021-0999.

In the NPRM, the FAA proposed to require modifying the inward vent valves and proposed to prohibit installing unmodified inward vent valves. The FAA is issuing this AD to address the unsafe condition on these products.

Discussion of Final Airworthiness Directive

Comments

The FAA received comments from Pilatus and PlaneSense Inc. (PlaneSense). The following presents the comments received on the NPRM and the FAA's response to each comment.

Request To Correct Service Bulletin References

Pilatus and PlaneSense requested that the FAA correct an error in the service bulletin (SB) references in paragraphs (g)(1) and (2) of the proposed AD. Pilatus stated these paragraphs read “Pilatus SB 20-015” when they should read “Pilatus SB 28-015.”

The FAA agrees and has corrected the service bulletin references.

Request To Revise the Definition of Group 2 Airplanes

Pilatus requested the FAA revise the definition of Group 2 airplanes in paragraph (g)(2) of the proposed AD from “Airplanes without an inward vent valve P/N 963.04.26.520 installed with a serial number listed in section 1.C(1) of Pilatus SB 20-015” to “Airplanes with an inward vent valve P/N 963.04.26.520 installed with a serial number not listed in section 1.C(1) of the Pilatus SB 28-015.” Pilatus stated the proposed definition is difficult to read and could be misinterpreted by an operator.

The FAA disagrees. The language requested by Pilatus would change the scope of the prohibition installation in paragraph (i) of the proposed AD, such that it only applies to airplanes with inward vent valve P/N 963.04.26.520 installed. The FAA intended the prohibition installation to apply to all airplanes that are not Group 1 airplanes, even those with a different inward vent valve P/N (such as valves manufactured by the holder of a parts manufacturer approval or if there is a part number change to the vent in the future). The FAA did not change the proposed AD as a result of this comment.

PlaneSense requested the FAA limit the applicability in paragraph (c) of the proposed AD to those airplanes defined as Group 1 in the proposed AD, so that it matches the effectivity of Pilatus Service Bulletin 28-015.

The FAA disagrees. Although the applicability of the proposed AD is broader than the Pilatus SB, it proposed to require that only Group 1 airplanes have the inward vent valves modified in accordance with the Pilatus SB. The FAA proposed a broader applicability to prohibit installation of an affected inward vent valve on all airplanes that are not Group 1 airplanes. The FAA did not change the applicability of the proposed AD as a result of this comment.

Conclusion

This product has been approved by the aviation authority of another country and is approved for operation in the United States. Pursuant to the FAA's bilateral agreement with this State of Design Authority, it has notified the FAA of the unsafe condition described in the MCAI and service information referenced above. The FAA reviewed the relevant data, considered the comments received, and determined that air safety requires adopting this AD as proposed. Accordingly, the FAA is issuing this AD to address the unsafe condition on these products. Except for the changes described previously, this AD is adopted as proposed in the NPRM. None of the changes will increase the economic burden on any operator.

Related Service Information Under 1 CFR Part 51

The FAA reviewed Pilatus Service Bulletin No. 28-015, dated October 12, 2020, which contains information for identifying affected inward vent valves, removing the affected inward vent valve, and installing a modified inward vent valve.

The FAA also reviewed Pall Corporation Service Bulletin SB9337-01-29-01, Issue 1, dated September 22, 2020, which contains instructions for modifying the inward vent valve by applying corrosion protective chromate conversation coating.

This service information is reasonably available because the interested parties have access to it through their normal course of business or by the means identified in the ADDRESSES section.

Costs of Compliance

The FAA estimates that this AD will affect 24 airplanes of U.S. registry.

The FAA estimates the following costs to comply with this AD:

Estimated Costs
Action | Labor cost | Parts cost | Cost per airplane | Cost on U.S. operators
Modification per airplane if both sides affected | 3 work-hours × $85 per hour = $255 | $50 | $305 | $7,320

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-07-04 Pilatus Aircraft Ltd.: Amendment 39-21991; Docket No. FAA-2021-0999; Project Identifier MCAI-2021-00036-A.

(a) Effective Date

This airworthiness directive (AD) is effective May 9, 2022.

(b) Affected ADs

None.

(c) Applicability

This AD applies to Pilatus Aircraft Ltd. Model PC-12/47E airplanes, serial number (S/N) 1720 and S/N 2001 and larger, certificated in any category.

(d) Subject

Joint Aircraft System Component (JASC) Code 2800, Aircraft Fuel System.

(e) Unsafe Condition

This AD was prompted by mandatory continuing airworthiness information (MCAI) originated by an aviation authority of another country to identify and correct an unsafe condition on an aviation product. The MCAI identifies the unsafe condition as inward vent valves installed during production without chromate conversion coating on the bonding surface. The FAA is issuing this AD to prevent corrosion and degradation of the electrical bonding to Rib 16. This condition, if not addressed, could lead to arcing between the ungrounded equipment and the primary structure in the event of a lightning strike, resulting in a fire and reduced airplane control.

(f) Compliance

Comply with this AD within the compliance times specified, unless already done.

(g) Definitions

(1) Group 1 airplanes: Airplanes with an inward vent valve part number (P/N) 963.04.26.520 installed with a serial number listed in section 1.C(1) of Pilatus Service Bulletin No. 28-015, dated October 12, 2020 (Pilatus SB 28-015).

(2) Group 2 airplanes: Airplanes without an inward vent valve P/N 963.04.26.520 installed with a serial number listed in section 1.C(1) of Pilatus SB 28-015.

(h) Modification of Inward Vent Valves

For Group 1 airplanes, within 1,200 hours time-in-service after the effective date of this AD or within 9 months after the effective date of this AD, whichever occurs first, modify each inward vent valve in accordance with the Accomplishment Instructions and Rework Instructions in Pall Corporation Service Bulletin SB9337-01-29-01, Issue 1, dated September 22, 2020 (Pall SB9337-01-29-01, Issue 1).

(i) Prohibited Installation

For all airplanes, as of the effective date of this AD, do not install an inward vent valve P/N 963.04.26.520 that has a serial number listed in section 1.C(1) of Pilatus SB 28-015 on any airplane, unless it is modified in accordance with the Accomplishment Instructions and Rework Instructions of Pall SB9337-01-29-01, Issue 1.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD and email to: 9-AVS-AIR-730-AMOC@faa.gov.

(2) Before using any approved AMOC, notify your appropriate principal inspector, or lacking a principal inspector, the manager of the local flight standards district office/certificate holding district office.

(k) Related Information

(1) For more information about this AD, contact Doug Rudolph, Aviation Safety Engineer, General Aviation & Rotorcraft Section, FAA, General Aviation & Rotorcraft Section, International Validation Branch, 901 Locust, Room 301, Kansas City, MO 64106; phone: (816) 329-4059; email: doug.rudolph@faa.gov.

(2) Refer to MCAI European Union Aviation Safety Agency (EASA) AD 2021-0010, dated January 11, 2021, for related information. You may examine the EASA AD at https://www.regulations.gov by searching for and locating Docket No. Docket No. FAA-2021-0999.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pall Corporation Service Bulletin SB9337-01-29-01, Issue 1, dated September 22, 2020.

(ii) Pilatus Service Bulletin No. 28-015, dated October 12, 2020.

(3) For service information identified in this AD, contact Pilatus Aircraft Ltd., CH-6371, Stans, Switzerland; phone: +41 848 247 365; email: techsupport.ch@pilatus-aircraft.com; website: https://www.pilatus-aircraft.com/.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on March 16, 2022.
Lance T. Gant,
Director, Compliance & Airworthiness Division, Aircraft Certification Service.

[FR Doc. 2022-06975 Filed 4-1-22; 8:45 am]

BILLING CODE 4910-13-P